DEPARTMENT OF TRANSPORTATION

Federal Highway Administration

Notice of Intent To prepare a Draft Environmental Impact Statement for the State Route 67 Operational Improvements Project, in San Diego County, California

AGENCY: Federal Highway Administration (FHWA), U.S. Department of Transportation (DOT).

ACTION: Notice of Intent (NOI) to prepare a Draft Environmental Impact Statement (Draft EIS) for the State Route 67 (SR 67) Operational Improvements Project.

SUMMARY: The FHWA, on behalf of the California Department of Transportation (Caltrans), is issuing this notice to advise the public that a Draft EIS will be prepared for the SR 67 operational improvements project (Project), a proposed highway project in San Diego County, California.

DATES: This notice will be accompanied by a 30-day public scoping comment period from Thursday, January 14, 2021, to Monday, February 15, 2021. The deadline for public comments is 5:00 p.m. (PST) on February 15, 2021. The Virtual scoping meeting will be held from 5:30 p.m. to 7:30 p.m. PST on Wednesday, January 27, 2021.

ADDRESSES: https://dot.ca.gov/sr67-improvements.

FOR FURTHER INFORMATION CONTACT: For Caltrans: contact Shay Lynn M. Harrison, Chief, Environmental Analysis—Branch C, Caltrans District 11, M.S. 242 4050 Taylor Street, San Diego, CA 92110, telephone 619-453-8481, or email shay.lynn.harrison@dot.ca.gov. For FHWA, contact David Tedrick, telephone (916) 498-5024, or email david.tedrick@dot.gov.

SUPPLEMENTARY INFORMATION: Effective July 1, 2007, the FHWA assigned, and Caltrans assumed, environmental responsibilities for this project pursuant to 23 U.S.C. 327. Caltrans as the assigned National Environmental Policy Act (NEPA) agency, will prepare a joint Environmental Impact Report/Environmental Impact Statement (EIR/EIS) on a proposal for operational improvements along State Route 67 (SR 67) project in San Diego County, California.

Caltrans, along with our partner the San Diego Association of Governments (SANDAG) are proposing operational improvements to SR 67 with emphasis on mobility and safety for the traveling public and goods, utilizing various modes of travel during typical and emergency highway conditions including emergency access, recreational access, and wildlife connectivity. Within this effort, deficiencies in multimodal transportation and recreational and wildlife movement will be addressed. Multimodal transportation includes bus as well as active bicycle and pedestrian options. Located along SR 67 (PM R5.48/21.35) from Maple view Street to Highland Valley/Dye Road in the City of Poway and the unincorporated communities of Lakeside and Ramona in San Diego County, California. The preliminary six alternatives currently under consideration include features such as: Additional lanes; auxiliary lanes, sliver widening; lane reconfiguration with two-way left turn lanes and/or turn pockets; median improvements, possible barriers, possible channelizers, and Intelligent Transportation Systems (ITS); extended shoulder, bus stops; bike paths and/or lanes; pedestrian improvements with sidewalks, signals, and/or bridges; recreational access improvements with additional parking lots, scenic turnouts, an/or paths; wildlife improvements with enhanced culverts and crossings. There is also the No Build alternative with no improvements proposed.

Letters describing the proposed action and soliciting comments will be sent to appropriate Federal, State, Participating Agencies, Tribal governments, and local agencies, and to private organizations and citizens who have previously expressed or are known to have interest in this proposal. The Scoping period to submit comment is from January 14, 2021 to February 15, 2021. Public scoping meeting will be held Virtually from 5:30 p.m. to 7:30 p.m. PST on Wednesday, January 27, 2021 from link at https://dot.ca.gov/sr67-improvements. In addition, a public hearing will be held once the Draft EIR/EIS is completed. Public notice will be given with the time and place of the meeting and hearing. The joint EIR/EIS will be available for public and agency review and comment prior to the public hearing. Comments may be submitted by: phone: (619) 688-4263; email: D11.SR67Improvements@dot.ca.gov; or letter to 4050 Taylor Street MS 242, San Diego, CA 92110 with Attention to Debra Soifer, Associate Environmental Planner. Spanish translations will be available on the website. All comments received in Spanish will be accepted and translated.

To ensure that the full range of issues related to this proposed action are addressed and all significant issues identified, comments, and suggestions are invited from all interested parties. Comments or questions concerning this proposed action and the EIS should be directed to Caltrans at the address provided above.

(Catalog of Federal Domestic Assistance Program Number 20.205, Highway Planning and Construction. The regulations implementing Executive Order 12372 regarding intergovernmental consultation on Federal programs and activities apply to this program.)

Issued on: January 12, 2021.
Rodney Whitfield,
Director, Financial Services, Federal Highway Administration, California Division.

[FR Doc. 2021-00860 Filed 1-14-21; 8:45 am]

BILLING CODE 4910-RY-P